Title 3—

The President

Proclamation 7903 of May 19, 2005

National Safe Boating Week, 2005

By the President of the United States of America

A Proclamation

Recreational boating has grown into one of our Nation's most popular pastimes, and as the summer approaches, millions of Americans will enjoy our country's beautiful waters. During National Safe Boating Week, we highlight our Nation's commitment to making recreational boating safer.

The number of boating fatalities has decreased over the last decade. By promoting the use of appropriate safety measures, we can save more lives and further reduce the number of injuries caused by boating accidents. The U.S. Coast Guard and others recommend four guidelines for safe boating: wear properly fitted life jackets; get vessels checked for safety; never boat under the influence of alcohol or drugs; and get proper training about the safe operation of boats. By adhering to these simple suggestions, boaters can keep themselves and others safe as they enjoy our Nation's waterways.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, do hereby proclaim May 21 through May 27, 2005, as National Safe Boating Week. I encourage the Governors of the 50 States and the Commonwealth of Puerto Rico, and officials of other areas subject to the jurisdiction of the United States, to join in observing this week. I also urge all Americans to learn more about safe boating practices, wear life jackets, take advantage of boating safety programs throughout the year, and always engage in proper and responsible conduct while on the water.

IN WITNESS WHEREOF, I have hereunto set my hand this nineteenth day of May, in the year of our Lord two thousand five, and of the Independence of the United States of America the two hundred and twenty-ninth.

B

[FR Doc. 05-10406

Filed 5-20-05; 11:04 am]

Billing code 3195-01-P